DEPARTMENT OF HEALTH AND HUMAN SERVICES

National Institute of Health

Translational Research Working Group Public Comment Period

AGENCY: National Cancer Institute (NCI), National Institutes of Health (NIH), Department of Health and Human Services (DHHS).

ACTION: Request for public comment.

SUMMARY: The Translational Research Working Group (TRWG), a broad panel including advocates, researchers from academia, industry representatives, and government officials, was established in early 2005 to evaluate the status of the National Cancer Institute's (NCI) intramural and extramural investment in translational research in order to develop recommendations on ways to coordinate and optimally integrate activities. The TRWG is also charged with developing implementation strategies that will enable the scientific community and NCI leadership to appropriately prioritize its translational research opportunities. Recommendations will be made to the National Cancer Advisory Board by early 2007. To assist in its future planning efforts, TRWG is asking public stakeholders in the translational research enterprise for feedback on some of the key questions facing the panel and insights on how to proceed.

DATES: The TRWG public comment period will run from December 20, 2005 to January 20, 2006.

ADDRESSES: Comments may be submitted electronically at the TRWG Web site: http://www.cancer.gov/trwg/.

SUPPLEMENTARY INFORMATION:

Background

The National Cancer Institute is committed to speeding the development of new diagnostic tests, cancer treatments, and other interventions that benefit people with cancer and people at risk for cancer. Such development relies on strong translational research collaborations between basic and clinical scientists to generate novel approaches. Currently, NCI supports a variety of projects that build this bridge between basic science and patient care.

Over the next year, the Translational Research Working Group (TRWG) will review NCI's current intramural and extramural translational research portfolio (within the scope of the TRWG mission), facilitate broad community input, invite public comment, and recommend ways to improve and integrate efforts. The ultimate goal is to accelerate progress toward improving the health of the nation and cancer patient outcomes.

Request for Comments

To better understand the different viewpoints in the cancer research community, and to develop and reflect a common understanding about the challenges and opportunities in translational research, TRWG seeks input on six important areas:

• Barriers to/Incentives for Translational Research.

• Prioritization.

• Funding.

• System Organization.

• Facilities/Technologies.

• Manpower/Training.

Dated: December 22, 2005.
Ernest Hawk,
Director, Office of Centers, Training and Resources, National Cancer Institute, National Institutes of Health.

[FR Doc. 05-24687 Filed 12-30-05; 8:45 am]

BILLING CODE 4140-01-M